DEPARTMENT OF THE INTERIOR

Bureau of Reclamation

Notice of Intent To Prepare an Environmental Impact Statement (EIS) and Hold Public Scoping Meetings for the Municipal and Industrial (M&I) Water Shortage Policy (WSP), Central Valley Project (CVP)

AGENCY: Bureau of Reclamation, Interior.

ACTION: Notice of intent and public scoping meetings.

SUMMARY: The U.S. Department of the Interior, Bureau of Reclamation Mid-Pacific Region (Reclamation) proposes to prepare an EIS to analyze the potential effects of an update to the M&I WSP. The policy would be implemented by Reclamation during water short years. Reclamation previously developed, in consultation with the CVP M&I Water Service contractors, a draft CVP M&I WSP in 2001, and in 2005 prepared an Environmental Assessment (2005 EA). The 2005 EA was published on October 2005 and a Finding of No Significant Impact (FONSI) was signed in December 2005. The 2001 M&I WSP was modified by, and is being implemented in accordance with, Alternative 1B in the 2005 EA.

Since the publication of the 2005 EA, Reclamation received additional comments from several CVP water service contractors. The contractors expressed a need for clarity on certain aspects of the 2001 M&I WSP, as modified. Other comments received by Reclamation suggested consideration of alternatives to the 2001 M&I WSP. The comments coupled with recent significant changes in the Bay-Delta and CVP/State Water Project operations, has impelled Reclamation to evaluate alternatives and provide an M&I WSP that best recognizes the needs of various segments of the water user community and how those needs could be addressed in times of water shortages.

DATES: Written comments on the scope of the EIS will be accepted until May 9, 2011.

Four public scoping meetings will be held to solicit public input on the scope of the environmental document, alternatives, concerns, and issues to be addressed in the EIS. The scoping meeting dates are:

• Monday, March 21, 2011, 2-4 p.m., Sacramento, CA.

• Tuesday, March 22, 2011, 6-8 p.m., Willows, CA.

• Wednesday, March 23, 2011, 6-8 p.m., Fresno, CA.

• Thursday, March 24, 2011, 6-8 p.m., Oakland, CA.

ADDRESSES: Send written comments on the scope of the M&I WSP EIS to Tamara LaFramboise, Natural Resource Specialist, Mid-Pacific Regional Office, Bureau of Reclamation, 2800 Cottage Way, MP-410, Sacramento, CA 95825; or e-mail tlaframboise@usbr.gov.

Scoping meetings will be held at:

• Sacramento— Best Western Expo Inn and Suites, 1413 Howe Avenue, Sacramento, CA 95825.

• Willows—Veteran's Memorial Hall Building of Willows, 525 W. Sycamore Street, Willows, CA 95988.

• Fresno—Piccadilly Inn Express, 5115 E. McKinley Avenue, Fresno, CA 93727.

• Oakland— Red Lion Hotel Oakland International Airport, 150 Hegenberger Road, Oakland, CA 94621.

FOR FURTHER INFORMATION CONTACT: Tim Rust, Program Manager, Bureau of Reclamation, via e-mail at trust@usbr.gov or at (916) 978-5516; or Mike Chotkowski, Chief, Division of Environmental Affairs, Bureau of Reclamation, via e-mail at mchotowski@usbr.gov or at (916) 978-5025.

SUPPLEMENTARY INFORMATION: The CVP is operated under Federal statutes authorizing the CVP, and by the terms and conditions of water rights acquired pursuant to California law. During any year, constraints may occur on the availability of CVP water for M&I water service contractors. The cause of the water shortage may be drought, unavoidable causes, or restricted operations resulting from legal and environmental obligations or mandates. Those legal and environmental obligations include, but are not limited to, the Endangered Species Act, the Central Valley Project Improvement Act (CVPIA), and conditions imposed on CVP's water rights by the California State Water Resources Control Board. The 2001 M&I WSP, as modified, establishes the terms and conditions regarding the constraints on availability of water supply for the CVP M&I water service contracts.

Allocation of CVP water supplies for any given water year is based upon forecasted reservoir inflows and Central Valley hydrologic conditions, amounts of storage in CVP reservoirs, regulatory requirements, and management of Section 3406(b)(2) resources and refuge water supplies in accordance with CVPIA. In some cases, M&I water shortage allocations may differ between CVP divisions due to regional CVP water supply availability, system capacity, or other operational constraints.

The purpose of the update to the 2001 M&I WSP, as modified, is to provide detailed, clear, and objective guidelines for the distribution of CVP water supplies during water shortage conditions, thereby allowing CVP water users to know when, and by how much, water deliveries may be reduced in drought and other low water supply conditions.

The increased level of predictability that will be provided by the update to the 2001 M&I WSP is needed by water managers and the entities that receive CVP water to better plan for and manage available CVP water supplies, and to better integrate the use of CVP water with other available Non-CVP water supplies. The update to the 2001 M&I WSP is also needed to clarify certain terms and conditions with regard to its applicability and implementation. The proposed action is the adoption of an updated 2001 M&I WSP, as modified, and its respective implementation guidelines.

The EIS will be used to develop and evaluate alternatives to the 2001 M&I WSP, as modified, and will include analysis of the adverse and beneficial effects on the quality of the human and physical environment.

Issues to be addressed may include, but are not limited to, CVP water supply availability, impacts on biological resources, historic and archaeological resources, hydrology, groundwater, water quality, air quality, safety, hazardous materials and waste, visual resources, socioeconomics, including real estate, agriculture and environmental justice.

At this time, there are no known or possible Indian trust assets or environmental justice issues associated with the Proposed Action.

Special Assistance for Public Scoping Meetings

If special assistance is required at the scoping meetings, please contact Mr. Louis Moore at (916) 978-5106, or via e-mail at wmoore@usbr.gov. Please notify Mr. Moore as far in advance as possible to enable Reclamation to secure the needed services. If a request cannot be honored, the requestor will be notified. A telephone device for the hearing impaired (TDD) is available at (916) 978-5608.

Public Disclosure

Before including your name, address, phone number, e-mail address, or other personal identifying information in your comment, you should be aware that your entire comment including your personal identifying information may be made publicly available at any time. While you can ask us in your comment to withhold your personal identifying information from public review, we cannot guarantee that we will be able to do so.

Dated: January 21, 2011.
Anastasia T. Leigh,
Acting Regional Environmental Officer, Mid-Pacific Region.

[FR Doc. 2011-5153 Filed 3-7-11; 8:45 am]

BILLING CODE 4310-MN-P